Title 3—

The President

Proclamation 8773 of January 13, 2012

Martin Luther King, Jr., Federal Holiday, 2012

By the President of the United States of America

A Proclamation

On a hot summer day nearly half a century ago, an African American preacher with no official title or rank gave voice to our Nation’s deepest aspirations, sharing his dream of an America that ensured the true equality of all our people. From the steps of the Lincoln Memorial, the Reverend Dr. Martin Luther King, Jr. inspired a movement that would push our country toward a more perfect Union.

At a time when our Nation was sharply divided, Dr. King called on a generation of Americans to be “voices of reason, sanity, and understanding amid the voices of violence, hatred, and emotion.” His example stirred men and women of all backgrounds to become foot soldiers for justice, and his leadership gave them the courage to refuse the limitations of the day and fight for the prospect of tomorrow. Because these individuals showed the resilience to stand firm in the face of the fiercest resistance, we are the benefactors of an extraordinary legacy of progress.

Today, Dr. King is memorialized on the National Mall where he once spoke, a symbol of how far our Nation has come and a testament to the quiet heroes whose names may never appear in history books, but whose selflessness brought about change few thought possible. Dr. King’s memorial reminds us that while the work of realizing his remarkable dream is unending, with persistence, progress is within our reach.

On the Martin Luther King, Jr., Federal Holiday, we celebrate the man who fought for the America he knew was possible. Dr. King’s faith in a God who loves all His children and a Nation grounded in the promise of equality would not let him rest until victory was won. As we work to meet the challenges of our time—from fixing our schools so every child gets a world-class education to ensuring all Americans have access to strong and secure economic opportunity—let us draw strength from Dr. King’s stirring affirmation that “Everybody can be great because everybody can serve.” In his memory, let us continue climbing toward that Promised Land, one more fair and more just for all people.

NOW, THEREFORE, I, BARACK OBAMA, President of the United States of America, by virtue of the authority vested in me by the Constitution and the laws of the United States, do hereby proclaim January 16, 2012, as the Martin Luther King, Jr., Federal Holiday. I encourage all Americans to observe this day with appropriate civic, community, and service projects in honor of Dr. King, and to visit www.MLKDay.gov to find Martin Luther King, Jr., Day of Service projects across our country.

IN WITNESS WHEREOF, I have hereunto set my hand this thirteenth day of January, in the year of our Lord two thousand twelve, and of the Independence of the United States of America the two hundred and thirty-sixth.

[FR Doc. 2012-1190

Filed 1-19-12; 8:45 am]

Billing code 3295-F2-P